DEPARTMENT OF COMMERCE

International Trade Administration

[A-475-834]

Certain Carbon and Alloy Steel Cut-to-Length Plate From Italy: Preliminary Results and Intent To Rescind, in Part, of Antidumping Duty Administrative Review; 2023-2024

AGENCY: Enforcement and Compliance, International Trade Administration, Department of Commerce.

SUMMARY: The U.S. Department of Commerce (Commerce) preliminarily finds that certain carbon and alloy steel cut-to-length plate (CTL plate) from Italy was sold at less than normal value (NV) during the period of review (POR), May 1, 2023, through April 30, 2024. We invite interested parties to comment on these preliminary results.

DATES: Applicable May 15, 2025.

FOR FURTHER INFORMATION CONTACT: Carter Sherwin, AD/CVD Operations, Office II, Enforcement and Compliance, International Trade Administration, U.S. Department of Commerce, 1401 Constitution Avenue NW, Washington, DC 20230; telephone: (202) 482-4260.

SUPPLEMENTARY INFORMATION:

Background

On May 25, 2017, Commerce published in the Federal Register the antidumping duty order on CTL plate from Italy.¹ On May 2, 2024, Commerce published in the Federal Register a notice of opportunity to request an administrative review of the Order.² On July 5, 2024, based on timely requests for review, in accordance with 19 CFR 351.221(c)(1)(i), we initiated an administrative review of the Order covering five producers/exporters: (1) NLMK Verona S.p.A. (NVR); (2) Officine Technosider s.r.l.; (3) F.A.R. Fonderie Acciaierie S.p.A.; (4) Ferriera Valsider SpA.' and (5) Metinvest Trametal SpA (MTS).³ On August 9, 2024, Commerce selected NVR and MTS as mandatory respondents in this review.⁴

¹ See Certain Carbon and Alloy Steel Cut-To-Length Plate from Austria, Belgium, France, the Federal Republic of Germany, Italy, Japan, the Republic of Korea, and Taiwan: Amended Final Affirmative Antidumping Determinations for France, the Federal Republic of Germany, the Republic of Korea, and Taiwan, and Antidumping Duty Orders, 82 FR 24096, 24098 (May 25, 2017) (Order).

² See Antidumping or Countervailing Duty Order, Finding, or Suspended Investigation; Opportunity to Request Administrative Review and Join Annual Inquiry Service List, 89 FR 35778 (May 2, 2024).

³ See Initiation of Antidumping and Countervailing Duty Administrative Reviews, 89 FR 55567 (July 5, 2024) (Initiation Notice).

⁴ See Memorandum, “Respondent Selection,” dated August 9, 2024.

On July 22, 2024, Commerce tolled the deadline to issue the preliminary results in this administrative review by seven days.⁵ On December 9, 2024, Commerce tolled the deadline to issue the preliminary results in this administrative review by an additional 90 days.⁶ Accordingly, the deadline for these preliminary results is now May 8, 2025.

⁵ See Memorandum, “Tolling of Deadlines for Antidumping and Countervailing Duty Proceedings,” dated July 22, 2024.

⁶ See Memorandum, “Tolling of Deadlines for Antidumping and Countervailing Duty Proceedings,” dated December 9, 2024.

From February 24 to 28, 2025, Commerce verified the responses for NVR in Verona, Italy, and from March 11 to 13, 2025, Commerce verified the responses for NLMK North American Plate (NAP) in Farell, Pennsylvania.⁷ For a complete description of the events that followed the initiation of this review, see the Preliminary Decision Memorandum.⁸

⁷ See Memorandum, “Verification of the Sales Response of NVR Verona in the Antidumping Administrative Review of Certain Carbon and Alloy Cut-to-Length Plate from Italy,” dated March 19, 2025.

⁸ See Memorandum, “Decision Memorandum for the Preliminary Results of the 2023-2024 Administrative Review of the Antidumping Duty Order on Certain Carbon and Alloy Cut-to-Length Plate from Italy,” dated concurrently with, and hereby adopted by, this notice (Preliminary Decision Memorandum).

Scope of the Order

The merchandise subject to the Order is certain carbon and alloy steel cut-to-length plate from Italy. For a complete description of the scope of the Order, see the Preliminary Decision Memorandum.

Methodology

Commerce is conducting this review in accordance with sections 751(a)(1)(B) and (2) of the Tariff Act of 1930, as amended (the Act). Export price and constructed export price are calculated in accordance with section 772 of the Act. NV is calculated in accordance with section 773 of the Act.

For a full description of the methodology underlying these preliminary results, see the Preliminary Decision Memorandum. A list of topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Intent To Rescind, in Part

Pursuant to 19 CFR 351.213(d)(3), it is Commerce's practice to rescind an administrative review of an antidumping duty order where it determines that there were no suspended entries of subject merchandise during the POR.⁹ Normally, upon completion of an administrative review, the suspended entries are liquidated at the antidumping duty assessment rate for the review period. Therefore, for an administrative review to be conducted, there must be a suspended entry that Commerce can instruct U.S. Customs and Border Protection (CBP) to liquidate at the calculated antidumping duty assessment rate for the review period.¹⁰

⁹ See, e.g., Certain Carbon and Alloy Steel Cut-to Length Plate from the Federal Republic of Germany: Recission of Antidumping Administrative Review; 2020-2021, 88 FR 4157 (January 24, 2023).

¹⁰ See, e.g., Shanghai Sunbeauty Trading Co. v. United States, 380 F. Supp. 3d 1328, 1335-36 (CIT 2019), at 12 (referring to section 751(a) of the Act, the U.S. Court of International Trade (CIT) held that: “While the statute does not explicitly require that an entry be suspended as a prerequisite for establishing entitlement to a review, it does explicitly state the determined rate will be used as the liquidation rate for the reviewed entries. This result can only obtain if the liquidation of entries has been suspended . . . ;” see also Certain Frozen Fish Fillets from the Socialist Republic of Vietnam: Final Results of Antidumping Duty Administrative Review and Final Determination of No Shipments; 2018-2019, 86 FR 36102 (July 8, 2021), and accompanying IDM at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

As discussed in greater detail in the Preliminary Decision Memorandum, the POR entry totals reflected in the data query provided by U.S. Customs Border Protection (CBP) in the Attachment of the CBP Data Memorandum reflected no POR entries of subject merchandise from: (1) F.A.R. Fonderie Acciaerie S.p.A.; (2) Officine Technosider s.r.l.¹¹ In the absence of any suspended entries of subject merchandise from these companies during the POR, Commerce hereby notifies all interested parties of its intent to rescind this administrative review with respect to these companies. Commerce is providing interested parties with an opportunity to submit comments on this preliminary decision, including factual information. Comments, including factual information, from interested parties are due to Commerce seven days after the publication date of this notice. Rebuttal comments, including rebuttal factual information, are due seven days thereafter. All submissions must be filed electronically at https://access.trade.gov in accordance with 19 CFR 351.303.

¹¹ See Memorandum, Release of Customs and Border Protection Data, dated July 25, 2024 (CBP Data Memorandum).

Preliminary Results of Review

Commerce preliminarily determines that the following estimated weighted-average dumping margins exist for the period May 1, 2023, through April 30, 2024:

¹² Commerce preliminarily determines that Mentivest Trametal S.p.A and Ferriera Valsider S.p.A are a single entity. See Preliminary Decision Memorandum.

Producer or exporter | Weighted- average dumping margin (percent)
NLMK Verona S.p.A | 3.52
Metinvest Trametal S.p.A.; Ferriera Valsider S.p.A.¹² | 5.51

Disclosure

Commerce intends to disclose the calculations and analysis performed to interested parties for these preliminary results within five days after public announcement or if there is no public announcement, within five days after the date of publication of this notice in the Federal Register.¹³

¹³ See 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice.¹⁴ Rebuttal briefs, limited to issues raised in the case briefs, may be filed no later than five days after the date for filing case briefs.¹⁵ Interested parties who submit case briefs or rebuttal briefs in this proceeding must submit: (1) a table of contents listing each issue; and (2) a table of authorities.¹⁶

¹⁴ See 19 CFR 351.309(c)(1)(ii).

¹⁵ See 19 CFR 351.309(d); see also Administrative Protective Order, Service, and Other Procedures in Antidumping and Countervailing Duty Proceedings, 88 FR 67069, 67077 (September 29, 2023) (APO and Service Final Rule).

¹⁶ See 19 CFR 351.309(c)(2) and (d)(2).

As provided under 19 CFR 351.309(c)(2) and (d)(2), in prior proceedings we have encouraged interested parties to provide an executive summary of their brief that should be limited to five pages total, including footnotes. In this administrative review, we instead request that interested parties provide at the beginning of their briefs a public, executive summary for each issue raised in their briefs.¹⁷ Further, we request that interested parties limit their executive summary of each issue to no more than 450 words, not including citations. We intend to use the executive summaries as the basis of the comment summaries included in the issues and decision memorandum that will accompany the final determination in this investigation. We request that interested parties include footnotes for relevant citations in the executive summary of each issue. Note that Commerce has amended certain of its requirements pertaining to the service of documents in 19 CFR 351.303(f).¹⁸

¹⁷ We use the term “issue” here to describe an argument that Commerce would normally address in a comment of the Issues and Decision Memorandum.

¹⁸ See APO and Service Final Rule.

Pursuant to 19 CFR 351.310(c), interested parties who wish to request a hearing must submit a written request to the Assistant Secretary for Enforcement and Compliance, filed electronically via ACCESS. Hearing requests should contain: (1) the party's name, address, and telephone number; (2) the number of participants; and (3) a list of issues to be discussed. Oral presentations at the hearing will be limited to issues raised in the briefs. An electronically filed hearing request must be received successfully in its entirety by Commerce's electronic records system, ACCESS, by 5:00 p.m. Eastern Time within 30 days after the date of publication of this notice. If a request for a hearing is made, Commerce intends to hold a hearing at a date and time to be determined.¹⁹ Parties should confirm the date, time, and location of the hearing two days before the scheduled date.

¹⁹ See 19 CFR 351.310(d).

Assessment Rates

Upon completion of the final results of this administrative review, Commerce shall determine, and U.S. Customs and Border Protection (CBP) shall assess, antidumping duties on all appropriate entries of subject merchandise covered by this review.²⁰

²⁰ See 19 CFR 351.212(b).

If a respondent's weighted-average dumping margin is not zero or de minimis (i.e., less than 0.50 percent) in the final results of this review, we intend to calculate an importer-specific ad valorem antidumping duty assessment rate based on the ratio of the total amount of dumping calculated for each importer's examined sales to the total entered value of those same sales in accordance with 19 CFR 351.212(b)(1).²¹ If the weighted-average dumping margin or an importer-specific assessment rate is zero or de minimis in the final results of review, we intend to instruct CBP to liquidate entries without regard to antidumping duties.²² The final results of this administrative review shall be the basis for the assessment of antidumping duties on entries of merchandise covered by the final results of this review and for future deposits of estimated duties, where applicable.²³

²¹ See Antidumping Proceedings: Calculation of the Weighted-Average Dumping Margin and Assessment Rate in Certain Antidumping Proceedings: Final Modification, 77 FR 8101, 8103 (February 14, 2012).

²² Id., 77 FR at 8102; see also 19 CFR 351.106(c)(2).

²³ See section 751(a)(2)(C) of the Act.

If a respondent has not reported entered values, we will calculate a per-unit assessment rate for each importer by dividing the total amount of dumping calculated for the examined sales made to that importer by the total quantity associated with those sales.

For entries of subject merchandise during the POR produced by each individually examined respondent for which the they did not know that the merchandise was destined for the United States, we will instruct CBP to liquidate unreviewed entries at the all-others rate established in the original LTFV investigation (i.e., 6.08 percent) if there is no rate for the intermediate company(ies) involved in the transaction.²⁴

²⁴ See Order; see also Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective upon publication in the Federal Register of the notice of final results of administrative review for all shipments of the subject merchandise entered, or withdrawn from warehouse, for consumption on or after the date of publication, as provided by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for merchandise exported by producers or exporters not covered in this review but covered in a prior segment of the proceeding, the cash deposit rate will continue to be the company-specific rate published for the most recently-completed segment of this proceeding in which they were reviewed; (3) if the exporter is not a firm covered in this review, a prior review, or the original LTFV investigation, but the producer is, then the cash deposit rate will be the cash deposit rate established for the most recently completed segment of this proceeding for the producer of the merchandise; and (4) the cash deposit rate for all other producers or exporters will continue to be 6.08 percent, the all-others rate established in the LTFV investigation.²⁵ These cash deposit requirements, when imposed, shall remain in effect until further notice.

²⁵ See Order.

Final Results of Review

Unless the deadline is otherwise extended, Commerce intends to issue the final results of this administrative review, including the results of its analysis of issues raised by interested parties in the written comments, within 120 days after the date of publication of these preliminary results in the Federal Register.²⁶

²⁶ See section 751(a)(3)(A) of the Act; and 19 CFR 351.213(h).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of doubled antidumping duties.

Notification to Interested Parties

We are issuing and publishing these preliminary results in accordance with sections 751(a)(1) and 777(i)(1) of the Act, and 19 CFR 351.221(b)(4).

Dated: May 8, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Intent to Rescind Review, In Part

V. Affiliation and Single Entity Treatment

VI. Discussion of the Methodology

VII. Currency Conversion

VIII. Recommendation

[FR Doc. 2025-08612 Filed 5-14-25; 8:45 am]

BILLING CODE 3510-DS-P